DEPARTMENT OF COMMERCE

National Oceanic and Atmospheric Administration

[I.D. 051806F]

Fisheries of the South Atlantic and Gulf of Mexico; South Atlantic Fishery Management Council (SAFMC) Scientific and Statistical Committee and Subcommittees.

AGENCY: National Marine Fisheries Service (NMFS), National Oceanic and Atmospheric Administration (NOAA), Commerce.

ACTION: Notice of SAFMC Scientific and Statistical Committee (SSC) and SSC Biological Subcommittee and Socioeconomic Subcommittee meetings.

SUMMARY: The SAFMC will a meeting of its SSC, SSC Biological Subcommittee and Socioeconomic Subcommittee meeting to address federal fishery management issues. The meeting will be held in Coconut Grove, FL.

DATES: The meetings will take place on June 12-14, 2006. See SUPPLEMENTARY INFORMATION for specific dates and times.

ADDRESSES: The meetings will be held at the Wyndham Grand Bay Hotel,2669 South Bayshore Drive, Coconut Grove, FL 33133; telephone: (800) 996-3426 or (305) 858-9600, fax: (305) 859-2026.

Council address: South Atlantic Fishery Management Council, One Southpark Circle, Suite 306, Charleston, SC 29407-4699.

FOR FURTHER INFORMATION CONTACT: Kim Iverson, Public Information Officer; telephone: (843) 571-4366 or toll free (866) SAFMC-10; fax: (843) 769-4520; e-mail: kim.iverson@safmc.net.

SUPPLEMENTARY INFORMATION: Under the Magnuson-Stevens Act, the SSC is the body responsible for reviewing the Council's scientific materials. The South Atlantic Fishery Management Council will hold meetings of its SSC, SSC Biological Subcommittee, and SSC Socioeconomic Subcommittee.

Items for discussion include: (1) Amendment 14 to the Snapper Grouper Fishery Management Plan (FMP) addressing the use of marine protected areas as a management tool for deepwater species, (2) Amendment 15 to the Snapper Grouper FMP addressing rebuilding schedules for snowy grouper, golden tilefish, black sea bass, and red porgy; recreational sale; permit issues (incorporation and 60-day renewal), size limits for queen triggerfish, and fishing year changes for golden tilefish, (3) Updated Red Porgy Southeast Data, Assessment, and Review (SEDAR) assessment, (4) Cooperative research and fishery-independent sampling, (5) King mackerel mixing issues, (6) Stock assessments for species like snowy grouper, and (7) SAFMC Fishery Ecosystem Plan (FEP) and FEP Comprehensive Amendment.

1. SSC Biological Subcommittee Meeting and SSC Socioeconomic Subcommittee Meeting (consecutive sessions), June 12, 2006, 3:15 p.m. - 6 p.m., June 13, 2006, 2:45 - 5 p.m., June 14, 2006, 8:30 a.m. - 11 a.m.

The SSC Biological Subcommittee and SSC Socioeconomic Subcommittee will meet in consecutive sessions to review and provide recommendations to the SSC on fishery management issues as described in the SUPPLEMENTARY INFORMATION.

2. Scientific and Statistical Committee Meeting, June 12, 2006, from 1:30 p.m. - 3 p.m., on June 13, 2006, from 8:30 a.m. - 12 noon and 5:15 p.m. - 7 p.m., June 14, 2006, 11:15 a.m. - 3 p.m.

The SSC will meet to review recommendations from its Biological Subcommittee and Socioeconomic Subcommittee on management issues as described in the SUPPLEMENTARY INFORMATION. The SSC will then provide recommendations for the SAFMC Snapper Grouper Committee, King and Spanish Mackerel Committee and Advisory Panel, and to the full Council.

These meetings will be held in conjunction with the SAFMC meeting June 12-16, 2006 at the same location.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 3 days prior to the meetings.

Note: The times and sequence specified in this agenda are subject to change.

Dated: May 19, 2006.
James P. Burgess,
Acting Director, Office of Sustainable Fisheries, National Marine Fisheries Service.

[FR Doc. E6-8001 Filed 5-24-06; 8:45 am]

BILLING CODE 3510-22-S